DEPARTMENT OF COMMERCE

National Institute of Standards and Technology

[Docket No.: 021224331-3049-02]

RIN 0693-AB52

Establishment of a Team Under the National Construction Safety Team Act

AGENCY: National Institute of Standards and Technology, United States Department of Commerce.

ACTION: Notice.

SUMMARY: The Director of the National Institute of Standards and Technology (NIST), Technology Administration, United States Department of Commerce, announces the establishment of a National Construction Safety Team pursuant to the National Construction Safety Team Act. The Team was established to investigate the building failure at The Station nightclub in West Warwick, Rhode Island.

DATES: The Team was established on February 27, 2003.

ADDRESSES: Dr. James E. Hill, Deputy Director, Building and Fire Research Laboratory, National Institute of Standards and Technology, Mail Stop 8600, Gaithersburg, MD 20899-8600, telephone number (301) 975-5900. Members of the public are encouraged to submit to the Team non-privileged evidence that is relevant to the subject matter of the NIST investigation described in this notice. Such evidence may be submitted to the address contained in this section. Confidential information will only be accepted pursuant to an appropriate nondisclosure agreement.

FOR FURTHER INFORMATION CONTACT: Dr. James E. Hill, Deputy Director, Building and Fire Research Laboratory, National Institute of Standards and Technology, Mail Stop 8600, Gaithersburg, MD 20899-8600, telephone number (301) 975-5900.

SUPPLEMENTARY INFORMATION:

Authority: 15 U.S.C. 7301 et seq., 15 CFR part 270.

Background

The National Construction Safety Team Act (“Act”), Pub. L. 107-231, codified at 15 U.S.C. 7301 et seq., was enacted to provide for the establishment of investigative teams (“Teams”) to assess building performance and emergency response and evacuation procedures in the wake of any building failure that has resulted in substantial loss of life or that posed significant potential of substantial loss of life. The purpose of investigations by Teams is to improve the safety and structural integrity of buildings in the United States. As stated in the statute, a Team will (1) Establish the likely technical cause or causes of the building failure; (2) evaluate the technical aspects of evacuation and emergency response procedures; (3) recommend, as necessary, specific improvements to building standards, codes, and practices based on the findings made pursuant to (1) and (2); and recommend any research and other appropriate actions needed to improve the structural safety of buildings, and improve evacuation and emergency response procedures, based on the findings of the investigation.

Pursuant to the Act, on February 27, 2003, the Director of the National Institute of Standards and Technology (NIST), Technology Administration, United States Department of Commerce, established a Team to investigate the building failure at The Station nightclub in Warwick, Rhode Island. The Team may include members who are Federal employees and members who are not Federal employees. Team members who are Federal employees are governed by the Federal conflict of interest laws. Team members who are not Federal employees will be Federal government contractors, and conflicts of interest related to their service on the Team will be governed by FAR Subpart 9.5, Organizational and Consultant Conflicts of Interest, which will be incorporated by reference into all such contracts.

On January 30, 2003, NIST published an interim final rule with a request for public comments, establishing 15 CFR part 270, National Construction Safety Teams. The interim final rule contains general provisions regarding implementation of the Act and establishes procedures for the collection and preservation of evidence obtained and the protection of information created as part of investigations conducted pursuant to the Act, including guiding the disclosure of information under section 7 of the Act (§§ 270.350, 270.351, and 270.352) and guiding the Teams in moving and preserving evidence (§ 270.330). The interim final rule became effective upon publication. The procedures contained in the interim final rule apply to the investigation announced in this notice.

Members of the public are encouraged to submit to the Team non-privileged evidence that is relevant to the subject matter of the NIST investigation described in this notice. Such evidence may be submitted to the address contained in the ADDRESSES section of this notice. Confidential information will only be accepted pursuant to an appropriate nondisclosure agreement.

Dated: March 4, 2003.
Arden L. Bement, Jr.,
Director.

[FR Doc. 03-5600 Filed 3-7-03; 8:45 am]

BILLING CODE 3510-13-P